SECURITIES AND EXCHANGE COMMISSION

Sunshine Act Meeting

FEDERAL REGISTER CITATION OF PREVIOUS ANNOUNCEMENT: 65 FR 65034, October 31, 2000.

STATUS: Closed meeting.

PLACE: 450 Fifth Street, NW., Washington, DC.

DATE PREVIOUSLY ANNOUNCED: October 25, 2000.

CHANGE IN THE MEETING: Cancellation of meeting.

The closed meeting scheduled for Thursday, November 2, 2000 at 11:00 a.m. has been cancelled.

Dated: November 2, 2000.
Jonathan G. Katz,
Secretary.

[FR Doc. 00-28581 Filed 11-2-00; 4:16 pm]

BILLING CODE 8010-01-M